DEPARTMENT OF ENERGY

Federal Energy Regulatory Commission

[Project Nos. 14111-000; 14112-000; 14113-000]

Qualified Hydro 26, LLC; Lock+ Hydro Friends Fund VII; Western Minnesota Municipal Power Agency; Notice of Competing Preliminary Permit Applications Accepted for Filing and Soliciting Comments, Motions To Intervene, and Competing Applications

On March 15, 2011, Qualified Hydro 26, LLC (Qualified Hydro), Lock+ Hydro Friends Fund VII (Hydro Friends) and Western Minnesota Municipal Power Agency (WMMPA) filed preliminary permit applications, pursuant to section 4(f) of the Federal Power Act, proposing to study the feasibility of a hydropower project at the U.S. Army Corps of Engineers' (Corps) Mississippi River Lock and Dam #11 structure, located on the Mississippi River near the Township of Dubuque, Dubuque County, Iowa. The sole purpose of a preliminary permit, if issued, is to grant the permit holder priority to file a license application during the permit term. A preliminary permit does not authorize the permit holder to perform any land-disturbing activities or otherwise enter upon lands or waters owned by others without the owner's express permission.

Qualified Hydro's Mississippi Lock and Dam #11 Project No. 14111 would consist of: (1) A 400-foot-long by 350-foot-wide intake channel; (2) a 600-foot-long by 350-foot-wide tailrace channel; (3) a new 750-foot-long by 6-foot-diameter buried steel penstock; (4) a new 250-foot by 325-foot concrete powerhouse containing six new turbine-generators and associated switchgear, controls and ancillary systems; the turbine-generator units have individual unit capacities of 3.0 megawatts (MW) and a combined capacity of 18 MW; (5) a new concrete 40-foot by 50-foot control building constructed on the east side of the powerhouse; (6) a 80-foot-long by 60-foot-wide, 20 megavolt-amperes (MVA) substation; (7) a 20,000-foot-long transmission line extending east from the substation to an interconnection point with an existing transmission line on the Illinois side of the river; and (8) appurtenant facilities. The proposed operating voltage would be between 115 and 161 kilovolt (kV). The project would have annual energy production of 90 gigawatt-hours per year (GWh/yr), utilize Corps-designated flows from the Mississippi Lock and Dam #11 structure, and operate as directed by the Corps.

Applicant Contact: Mr. Ramya Swaminathan, Free Flow Power Corporation, 239 Causeway Street, Suite 300, Boston, MA 02114; (978) 283-2822.

Hydro Friends' proposed Lock and Dam #11 Hydropower Project No. 14112 would consist of: (1) Two 109-foot-wide by 40-foot-high lock frame modules—one installed in the inactive auxiliary lock itself and the other east of the movable section of the dam; each consisting of 10 hydropower turbines rated at 900 kilowatts (kW) and giving the project a total rated capacity of 18 MW; (2) two new 150-foot-long by 110-foot-wide tailrace channels; (3) a new 50-foot-long by 25-foot-wide switchyard; (4) a 2-mile-long, 115- kV transmission line extending from the switchyard to an existing nearby transmission line; and (5) appurtenant facilities. The project would have an average annual generation of 120 GWh/yr, and utilize Corps-designated flows from the Mississippi Lock and Dam #11 structure.

Applicant Contact: Mr. Wayne F. Krouse, Chairman, Hydro Green Energy, LLC, 5090 Richmond Avenue, #390, Houston, TX 77056; (877) 556-6566 x709.

WMMPA's Mississippi Lock and Dam #11 Project No. 1411 would consist of: (1) A 318-foot-long by 300-foot-wide intake channel; (2) a 265-foot-long by 300-foot-wide tailrace channel; (3) a new 190-foot-long by 260-foot-wide by 40-foot-high concrete powerhouse containing six new pit type axial flow turbine-generators and associated transformers and switchgear; the turbine-generator units would have individual unit capacities of 4.6 MW and a combined capacity of 27.6 MW; (4) a new 9.4-mile-long, 69 kV transmission line extending from the switchyard near the proposed powerhouse to an interconnection point with an existing substation on the Wisconsin side of the river; and (5) appurtenant facilities. The project would have annual energy production of 190 GWh/yr, utilize Corps designated flows from the Mississippi Lock and Dam #11 structure, and operate as directed by the Corps.

Applicant Contact: Mr. Raymond J. Wahle, P.E., Missouri River Energy Services 3724 W. Avera Drive, Sioux Falls, SD 57109; (605) 330-6963.

FERC Contact: Tyrone A. Williams, tyrone.williams@ferc.gov (202) 502-6331.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14111, P-14112, or P-14113-000) in the docket number field to access the document. For assistance, contact FERC Online Support.

Dated: April 26, 2011.
Kimberly D. Bose,
Secretary.

[FR Doc. 2011-10540 Filed 4-29-11; 8:45 am]

BILLING CODE 6717-01-P